DEPARTMENT OF HOMELAND SECURITY

Coast Guard

[Docket No. USCG-2013-1049]

Lifeboat Release Mechanisms

AGENCY: Coast Guard, DHS.

ACTION: Notice of availability; request for public comments.

SUMMARY: The Coast Guard announces the availability of a policy letter regarding a recent International Maritime Organization amendment to Chapter III of the International Convention for the Safety of Life At Sea, 1974 (SOLAS). The amendment requires all SOLAS ships, regardless of build date, to identify and replace existing lifeboat on-load release mechanisms that do not comply with certain provisions of the International Life-Saving Appliance (LSA) Code. Compliance is required no later than the next scheduled dry-docking after July 1, 2014, but in any case before July 1, 2019. The amendment does not apply to the release mechanisms on free-fall lifeboats. Any U.S. ship subject to SOLAS that operates on international voyages without complying with the amendment past the applicable compliance date may be subject to detention by foreign port state officials and other administrative action by foreign authorities.

DATES: The amendment to SOLAS Chapter III promulgated as IMO Resolution MSC.317(89) became effective on January 1, 2013. Comments and related material must either be submitted to our online docket via http://www.regulations.gov on or before April 28, 2014 or reach the Docket Management Facility by that date.

ADDRESSES: You may submit comments identified by docket number USCG-2013-1049 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329. To avoid duplication, please use only one of these four methods. See the “Public Participation” portion of the SUPPLEMENTARY INFORMATION section below for instructions on submitting comments.

FOR FURTHER INFORMATION CONTACT: If you have questions on this notice or the policy, contact Mr. George Grills, Commercial Regulations and Standards Directorate, Office of Design and Engineering Standards, Lifesaving and Fire Safety Division (CG-ENG-4), Coast Guard, telephone 202-372-1385, or email TypeApproval@uscg.mil. If you have questions on viewing material in the docket, call Ms. Barbara Hairston, Docket Operations, telephone 202-366-9826.

SUPPLEMENTARY INFORMATION:

Public Participation

You may submit comments and related materials regarding this proposed policy. All comments received will be posted, without change, to http://www.regulations.gov and will include any personal information you have provided.

Submitting comments: If you submit a comment, please include the docket number for this notice (USCG-2013-1049) and provide a reason for each suggestion or recommendation. You may submit your comments and materials online or by fax, mail or hand delivery, but please use only one of these means. We recommend that you include your name and a mailing address, an email address, or a telephone number in the body of your document so that we can contact you if we have questions regarding your submission. To submit your comment online, go to http://www.regulations.gov and use “USCG-2013-1049” as your search term. Locate this notice in the results and click the corresponding “Comment Now” box to submit your comment. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing the comments: To view comments, as well as documents mentioned in this notice as being available in the docket, go to http://www.regulations.gov and use “USCG-2013-1049” as your search term. Use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008 issue of the Federal Register (73 FR 3316).

Background and Purpose

SOLAS Regulation III/1.5

On May 20, 2011, the IMO's Maritime Safety Committee adopted Resolution MSC.317(89). This resolution promulgated new SOLAS Regulation III/1.5, which entered into force on January 1, 2013. Regulation III/1.5 requires all SOLAS ships, regardless of build date, to identify and replace existing on-load release mechanisms that do not comply with paragraphs 4.4.7.6.4 to 4.4.7.6.6 of the IMO LSA Code with compliant release mechanisms, no later than the next scheduled dry-docking after July 1, 2014, but in any case before July 1, 2019. Regulation III/1.5 does not apply to the release mechanisms on free-fall lifeboats. This SOLAS amendment potentially affects the release mechanisms for any existing SOLAS lifeboats, and some SOLAS rescue boats, installed on U.S. ships subject to SOLAS.

IMO MSC.1/Circ.1392

In support of new SOLAS regulation III/1.5, IMO's Maritime Safety Committee, at the same session it approved Resolution MSC.317(89), promulgated IMO Circular MSC.1/Circ.1392 (Circular 1392) under the title, “Guidelines for Evaluation and Replacement of Lifeboat Release and Retrieval Systems.” The purpose of Circular 1392 is to provide flag administrations, ship owners, and manufacturers of lifeboat release and retrieval systems a detailed process to achieve compliance with Regulation III/1.5. Circular 1392 outlines five major steps in evaluating existing lifeboat release and retrieval systems: (1) A design review; (2) a performance test; (3) a process for flag states to report to the IMO compliant and non-compliant systems; (4) procedures for replacement of non-compliant lifeboat release and retrieval systems; and (5) a one-time follow-up overhaul examination for existing systems.

A copy of Circular 1392 is available for viewing in the public docket for this notice. You may also download Circular 1392 from http://www.imo.org by clicking the following succession of links: “Our Work,” “Circulars,” and “Browse Circulars available at IMODOCS.” Public users will need to establish a user name and password to access the Circular.

CG-ENG Policy Letter

The Coast Guard has not adopted domestic regulations to implement Regulation III/1.5. The Coast Guard strongly urges voluntary compliance on the part of U.S. ships subject to SOLAS because any such ship that operates on international voyages without complying with Regulation III/1.5 past the applicable compliance date may be subject to detention or other administrative action by foreign port state officials.

A new CG-ENG policy letter is available in the docket for this notice. It provides guidance to enable U.S. ships subject to SOLAS to remain in compliance with SOLAS as amended by Resolution MSC.317(89), including detailed procedures to comply with the new requirements in Resolution MSC.317(89) and the guidance in Circular 1392.

The Coast Guard recognizes that Circular 1392 contains valuable safety improvements. Therefore, the Coast Guard recommends voluntary compliance with the guidelines in Circular 1392 for U.S. non-SOLAS ships, MODUs, and offshore facilities that carry lifeboats and rescue boats fitted with certain release mechanisms, as described in the Circular. We seek comments from the public on the application of Circular 1392 to U.S. vessels not subject to SOLAS.

The guidance contained in this notice is not a substitute for applicable legal requirements, nor is it itself a rule. It is not intended to nor does it impose legally binding requirements on any party. It represents the Coast Guard's current thinking on this topic and provides the public with an indication of current and future action being considered by the Coast Guard.

Authority

This notice is issued under the authority of 5 U.S.C. 552(a).

Dated: March 13, 2014.
Jeffrey G. Lantz,
Director, Commercial Regulations and Standards.

[FR Doc. 2014-06975 Filed 3-27-14; 8:45 am]

BILLING CODE 9110-04-P